LIBRARY OF CONGRESS

Copyright Office

37 CFR Part 201

[Docket No. 2018-4]

Copyright Office Fees: Extension of Comment Period

AGENCY: U.S. Copyright Office, Library of Congress.

ACTION: Notice of proposed rulemaking; extension of comment period.

SUMMARY: The Copyright Office is extending the deadline for the submission of written comments in response to its May 24, 2018 notice of proposed rulemaking proposing the adoption of a new fee schedule.

DATES: The comment period for the notice of proposed rulemaking, published on May 24, 2018 (83 FR 24054), is extended by an additional sixty days. Comments must be made in writing and must be received in the U.S. Copyright Office no later than 11:59 p.m. Eastern Time on September 21, 2018.

ADDRESSES: For reasons of government efficiency, the Copyright Office is using the regulations.gov system for the submission and posting of public comments in this proceeding. All comments are therefore to be submitted electronically through regulations.gov. Specific instructions for submitting comments are available on the Copyright Office website at https://www.copyright.gov/rulemaking/feestudy2018/. If electronic submission of comments is not feasible due to lack of access to a computer and/or the internet, please contact the Office for special instructions using the contact information below.

FOR FURTHER INFORMATION CONTACT: Regan A. Smith, General Counsel and Associate Register of Copyrights, by email at regans@copyright.gov, or Jalyce Mangum, Attorney-Advisor, by email at jmang@copyright.gov, or either by telephone at 202-707-8350.

SUPPLEMENTARY INFORMATION: On May 24, 2018, the U.S. Copyright Office issued a proposed rulemaking recommending the adoption of a new fee schedule for services in the following areas: Registration, recordation, record retrieval, search, and certification, the Licensing Division, and other ancillary services. The proposed fee schedule would assist the Office in recovering a significant part, though not the whole, of its costs.¹ The Office invited public comment on the notice of proposed rulemaking. To ensure that members of the public have sufficient time to respond, and to ensure that the Office has the benefit of a complete record, the Office is extending the submission deadline by an additional sixty days. Written comments now are due no later than September 21, 2018.

¹ 83 FR 24054 (May 24, 2018).

Dated: June 15, 2018.
Regan A. Smith,
General Counsel and Associate Register of Copyrights.

[FR Doc. 2018-13323 Filed 6-20-18; 8:45 am]

BILLING CODE 1410-30-P